DEPARTMENT OF TRANSPORTATION

Federal Aviation Administration

14 CFR Part 71

[Docket No. FAA-2023-1801; Airspace Docket No. 23-AAL-33]

RIN 2120-AA66

Modification of Class E Airspace; Klawock Airport, Klawock, AK

AGENCY: Federal Aviation Administration (FAA), DOT.

ACTION: Final rule.

SUMMARY: This action modifies the Class E airspace extending upward from 700 feet above the surface and removes the Class E airspace extending upward from 1,200 feet above the surface at Klawock Airport, Klawock, AK. Additionally, this action updates the administrative portion of the airport's existing Class E airspace legal description. These modifications support the safety and management of instrument flight rules (IFR) operations at the airport.

DATES: Effective date 0901 UTC, May 16, 2024. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11H, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Keith Adams, Federal Aviation Administration, Western Service Center, Operations Support Group, 2200 S 216th Street, Des Moines, WA 98198; telephone (206) 231-2428.

SUPPLEMENTARY INFORMATION:

Authority for This Rulemaking

The FAA's authority to issue rules regarding aviation safety is found in Title 49 of the United States Code. Subtitle I, Section 106, describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies Class E airspace to support IFR operations at Klawock Airport, Klawock, AK.

History

The FAA published a notice of proposed rulemaking for Docket No. FAA-2023-1801 in the Federal Register (88 FR 67124; September 29, 2023) for the modification of Class E airspace at Klawock Airport, Klawock AK. Additionally the FAA published a supplemental notice of proposed rulemaking for Docket No. FAA-2023-1801 in the Federal Register (88 FR 87375; December 18, 2023), to correct the description of a proposed northeast extension of the Class E airspace at Klawock Airport, Klawock, AK. Interested parties were invited to participate in this rulemaking effort by submitting written comments on the proposal to the FAA. One comment was received in support of the action.

Incorporation by Reference

Class E5 airspace areas are published in paragraph 6005 of FAA Order JO 7400.11, Airspace Designations and Reporting Points, which is incorporated by reference in 14 CFR 71.1 on an annual basis. This document amends the current version of that order, FAA Order JO 7400.11H, dated August 11, 2023, and effective September 15, 2023. FAA Order JO 7400.11H is publicly available as listed in the ADDRESSES section of this document. These amendments will be published in the next update to FAA Order JO 7400.11.

FAA Order JO 7400.11H lists Class A, B, C, D, and E airspace areas, air traffic service routes, and reporting points.

The Rule

This action amends 14 CFR part 71 by modifying the Class E airspace extending upward from 700 feet above the surface and removing the Class E airspace extending upward from 1,200 feet above the surface at Klawock Airport, Klawock AK.

The Class E airspace extending upward from 700 feet above the surface at the airport within a 6.7-mile radius is reduced to a semicircle from the airport's 249° bearing clockwise to the 025° bearing, as operations are not authorized to the southeast of the airport and containment is not needed in that area.

In addition, an extension to the Class E airspace extending upward from 700 feet above the surface is added to the northeast to be within 3 miles northwest and 3.3 miles southeast of the airport's 043° bearing extending to 9 miles northeast of the airport to more appropriately contain departing IFR operations until reaching 1,200 feet above the surface and arriving IFR operations below 1,500 feet above the surface when executing the CAALM TWO Area Navigation (RNAV) Departure Procedure or the RNAV Global Positioning System (GPS) Runway (RWY) 20 and RNAV (GPS) M RWY 20 approaches.

Moreover, the southwest procedure turn area is removed, as it is no longer needed. In its place, a southwest extension to the Class E airspace extending upward from 700 feet above the surface is added to be within 3.3 miles southeast and 3 miles northwest of the airport's 223° bearing extending to 14.6 miles southwest of the airport. This extension better contains departing IFR operations between the surface and 1,200 feet while executing the TURTY FOUR RNAV departure and arriving IFR operations below 1,500 feet above the surface while executing the RNAV (GPS) A, RNAV (GPS) M RWY 02, RNAV (GPS) Y RWY 2, or the RNAV (GPS) Z RWY 2 approaches.

Furthermore, the Klawock Class E airspace beginning at 1,200 feet above the surface is removed as it is redundant.

Finally, the FAA is modifying the airport's legal description. The Klawock nondirectional beacon/distance measuring equipment navigational aid was decommissioned in 2017, and reference to it is removed.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR part 71.1 of FAA Order JO 7400.11H, Airspace Designations and Reporting Points, dated August 11, 2023, and effective September 15, 2023, is amended as follows:

Paragraph 6005 Class E Airspace Areas Extending Upward From 700 Feet or More Above the Surface of the Earth.

* * * * *

AAL AK E5 Klawock, AK [Amended]

Klawock Airport, AK

(Lat. 55°34′45.2″ N, long. 133°04′33.6″ W)

That airspace extending upward from 700 feet above the surface within a 6.7-mile radius of the airport from the 249° bearing clockwise to the 025° bearing, within 3 miles northwest and 3.3 miles southeast of the 043° bearing extending from the airport to 9 miles northeast, and within 3.3 miles southeast and 3 miles northwest of the 223° bearing extending from the airport to 14.6 miles southwest.

* * * * *

Issued in Des Moines, Washington, on February 11, 2024.
B.G. Chew,
Group Manager, Operations Support Group, Western Service Center.

[FR Doc. 2024-05512 Filed 3-14-24; 8:45 am]

BILLING CODE 4910-13-P